SOCIAL SECURITY ADMINISTRATION

[Docket No: SSA-2018-0040]

Agency Information Collection Activities: Proposed Request and Comment Request

The Social Security Administration (SSA) publishes a list of information collection packages requiring clearance by the Office of Management and Budget (OMB) in compliance with Public Law 104-13, the Paperwork Reduction Act of 1995, effective October 1, 1995. This notice includes extensions and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov

(SSA) Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2018-0040].

I. The information collections below are pending at SSA. SSA will submit them to OMB within 60 days from the date of this notice. To be sure we consider your comments, we must receive them no later than September 24, 2018. Individuals can obtain copies of the collection instruments by writing to the above email address.

1. Credit Card Payment Form—0960-0648. SSA uses Form SSA-1414 to process: (1) Credit card payments from former employees and vendors with outstanding debts to the agency; (2) advance payments for reimbursable agreements; and (3) credit card payments for all Freedom of Information Act (FOIA) requests requiring payment. The respondents are former employees and vendors who have outstanding debts to the agency; entities who have reimbursable agreements with SSA; and individuals who request information through FOIA.

Type of Request: Revision of an OMB-approved information collection.

Modality of completion | Number of respondents | Frequency of response | Average burden per response (minutes) | Estimated total annual burden (hours)
SSA-1414 | 6,000 | 1 | 2 | 200

2. Promoting Readiness of Minors in SSI (PROMISE) Evaluation—0960-0799.

Background

The Promoting Readiness of Minors in SSI (PROMISE) demonstration pursues positive outcomes for children with disabilities who receive Supplemental Security Income (SSI) and their families by reducing dependency on SSI. The Department of Education (ED) awarded six cooperative agreements to states to improve the provision and coordination of services and support for children with disabilities who receive SSI and their families to achieve improved education and employment outcomes. ED awarded PROMISE funds to five single-state projects, and to one six-state consortium.¹ With support from ED, the Department of Labor (DOL), and the Department of Health and Human Services (HHS), SSA is evaluating the six PROMISE projects. SSA contracted with Mathematica Policy Research to conduct the evaluation.

¹ The six-state consortium project goes by the name Achieving Success by Promoting Readiness for Education and Employment (ASPIRE) rather than by PROMISE.

Under PROMISE, targeted outcomes for youth include an enhanced sense of self-determination; achievement of secondary and post-secondary educational credentials; an attainment of early work experiences culminating with competitive employment in an integrated setting; and long-term reduction in reliance on SSI. Outcomes of interest for families include heightened expectations for and support of the long-term self-sufficiency of their youth; parent or guardian attainment of education and training credentials; and increases in earnings and total income. To achieve these outcomes, we expect the PROMISE projects to make better use of existing resources by improving service coordination among multiple state and local agencies and programs.

ED, SSA, DOL, and HHS intend the PROMISE projects to address key limitations in the existing service system for youth with disabilities. By intervening early in the lives of these young people, at ages 14-16, the projects engage the youth and their families well before critical decisions regarding the age 18 redetermination are upon them. We expect the required partnerships among the various state and Federal agencies that serve youth with disabilities to result in improved integration of services and fewer dropped handoffs as youth move from one agency to another. By requiring the programs to engage and serve families and provide youth with paid work experiences, the initiative is mandating the adoption of critical best practices in promoting the independence of youth with disabilities.

Project Description

SSA is requesting clearance for the collection of data needed to implement and evaluate PROMISE. The evaluation provides empirical evidence on the impact of the intervention for youth and their families in several critical areas, including: (1) Improved educational attainment; (2) increased employment skills, experience, and earnings; and (3) long-term reduction in use of public benefits. We base the PROMISE evaluation on a rigorous design that entails the random assignment of approximately 2,000 youth in each of the six projects to treatment or control groups (12,000 total). The PROMISE projects provide enhanced services for youth in the treatment groups; whereas youth in the control groups are eligible only for those services already available in their communities independent of the interventions.

The evaluation assesses the effect of PROMISE services on educational attainment, employment, earnings, and reduced receipt of disability payments. The three components of this evaluation include:

• The process analysis, which documents program models, assesses the relationships among the partner organizations, documents whether the grantees implemented the programs as planned, identifies features of the programs that may account for their impacts on youth and families, and identifies lessons for future programs with similar objectives.

• The impact analysis, which determines whether youth and families in the treatment groups receive more services than their counterparts in the control groups. It also determines whether treatment group members have better results than control group members with respect to the targeted outcomes noted above.

• The cost-benefit analysis, which assesses whether the benefits of PROMISE, including increases in employment and reductions in benefit receipt, are large enough to justify its costs. We conduct this assessment from a range of perspectives, including those of the participants, state and Federal governments, SSA, and society as a whole.

SSA planned several data collection efforts for the evaluation. These include: (1) Follow-up interviews with youth and their parent or guardian 18 months and 5 years (60 months) after enrollment; (2) phone and in-person interviews with local program administrators, program supervisors, and service delivery staff at two points in time over the course of the demonstration; (3) two rounds of focus groups with participating youth in the treatment group; (4) two rounds of focus groups with parents or guardians of participating youth; (5) staff activity logs which provide data on aspects of service delivery; and (6) collection of administrative data.

At this time, SSA requests clearance for the 5-year (60-month) survey interviews. The respondents are the youth and their parents participating in the PROMISE demonstration.

Type of Request: Revision to an OMB-approved information collection.

Time Burden on Respondents

2019—60-Month Survey Interviews
Modality of completion | Number of respondents | Frequency of response | Average burden per response (minutes) | Estimated total annual burden (hours)
Parent Interview—telephone (using electronic assisted capturing) | 1,095 | 1 | 32 | 584
Youth Interview—telephone (using electronic assisted capturing) | 1,110 | 1 | 38 | 703
Parent Interview—Self-Administered Questionnaire | 22 | 1 | 18 | 7
Youth Interview—Self-Administered Questionnaire | 23 | 1 | 18 | 7
Totals | 2,250 |  |  | 1,301

2020—60-Month Survey Interviews
Modality of completion | Number of respondents | Frequency of response | Average burden per response (minutes) | Estimated total annual burden (hours)
Parent Interview—telephone (using electronic assisted capturing) | 5,127 | 1 | 32 | 2,734
Youth Interview—telephone (using electronic assisted capturing) | 5,169 | 1 | 38 | 3,274
Parent Interview—Self-Administered Questionnaire | 105 | 1 | 18 | 32
Youth Interview—Self-Administered Questionnaire | 105 | 1 | 18 | 32
Totals | 10,506 |  |  | 6,072

2021—60-Month Survey Interviews
Modality of completion | Number of respondents | Frequency of response | Average burden per response (minutes) | Estimated total annual burden (hours)
Parent Interview—telephone (using electronic assisted capturing) | 2,656 | 1 | 32 | 1,417
Youth Interview—telephone (using electronic assisted capturing) | 2,671 | 1 | 38 | 1,692
Parent Interview—Self-Administered Questionnaire | 54 | 1 | 18 | 16
Youth Interview—Self-Administered Questionnaire | 55 | 1 | 18 | 17
Totals | 5,436 |  |  | 3,142

Grand Totals
Modality of completion | Number of respondents | Frequency of response | Average burden per response (minutes) | Estimated total annual burden (hours)
Parent Interview—telephone (using electronic assisted capturing) | 8,878 | 1 | 32 | 4,735
Youth Interview—telephone (using electronic assisted capturing) | 8,950 | 1 | 38 | 5,669
Parent Interview—Self-Administered Questionnaire | 181 | 1 | 18 | 55
Youth Interview—Self-Administered Questionnaire | 183 | 1 | 18 | 56
Totals | 18,192 |  |  | 10,515

II. SSA submitted the information collections below to OMB for clearance. Your comments regarding these information collections would be most useful if OMB and SSA receive them 30 days from the date of this publication. To be sure we consider your comments, we must receive them no later than August 27, 2018. Individuals can obtain copies of the OMB clearance packages by writing to OR.Reports.Clearance@ssa.gov.

1. Statement of Employer—20 CFR 404.801-404.803—0960-0030. When workers report they were paid wages but cannot provide proof of those earnings, and the wages do not appear in SSA's records of earnings, SSA uses Form SSA-7011-F4 to document the alleged wages. Specifically, the agency uses the form to resolve discrepancies in the individual's Social Security earnings record and to process claims for Social Security benefits. We only send Form SSA-7011-F4 to employers if we are unable able to locate the earnings information within our own records. The respondents are employers who can verify wage allegations made by wage earners.

Type of Request: Revision of an OMB-approved information collection.

Modality of completion | Number of respondents | Frequency of response | Average burden per response (minutes) | Estimated total annual burden (hours)
SSA-7011-F4 | 500 | 1 | 20 | 167

2. Statement of Claimant or Other Person—20 CFR 404.702 & 16.570—0960-0045. SSA uses Form SSA-795 in special situations where there is no authorized form or questionnaire, yet we require a signed statement from the applicant, claimant, or other individuals who have knowledge of facts, in connection with claims for Social Security benefits or SSI. The information we request on the SSA-795 is of sufficient importance that we need both a signed statement and a penalty clause. SSA uses this information to process, in addition to claims for benefits, issues about continuing eligibility; ongoing benefit amounts; use of funds by a representative payee; fraud investigation; and a myriad of other program-related matters. The most common respondents are applicants for Social Security, SSI, or recipients of these programs. However, respondents also include friends and relatives of the involved parties; coworkers; neighbors; or anyone else in a position to provide information pertinent to the issue(s).

Type of Request: Revision of an OMB-approved information collection.

Modality of completion | Number of respondents | Frequency of response | Average burden per response (minutes) | Estimated total annual burden (hours)
SSA-795 | 305,500 | 1 | 15 | 76,375

3. Application for a Social Security Number Card, the Social Security Number Application Process (SSNAP), and internet SSN Replacement Card (iSSNRC) Application—20 CFR 422.103-422.110—0960-0066. SSA collects information on the SS-5 (used in the United States) and SS-5-FS (used outside the United States) to issue original or replacement Social Security cards. SSA also enters the application data into the SSNAP application when issuing a card via telephone or in person. In addition, hospitals collect the same information on SSA's behalf for newborn children through the Enumeration-at-Birth process. In this process, parents of newborns provide hospital birth registration clerks with information required to register these newborns. Hospitals send this information to State Bureaus of Vital Statistics (BVS), and they send the information to SSA's National Computer Center. SSA then uploads the data to the SSA mainframe along with all other enumeration data, and we assign the newborn a Social Security number (SSN) and issue a Social Security card. Respondents can also use these modalities to request a change in their SSN records. Finally, the iSSNRC internet application collects information similar to the paper SS-5 for no-change replacement SSN cards for adult U.S. citizens. The iSSNRC modality allows certain applicants for an SSN replacement cards to complete the internet application and submit the required evidence online rather than completing a paper Form SS-5. The respondents for this collection are applicants for original and replacement Social Security cards, or individuals who wish to change information in their SSN records, who use any of the modalities described above.

Note: This is a correction notice: SSA published the incorrect burden information for this collection at 83 FR 21328, on 5/09/18. We are correcting this error here.

Type of Request: Revision of an OMB-approved information collection.

Application scenario | Number of respondents | Frequency of response | Average burden per response (minutes) | Estimated total annual burden (hours)
Respondents who do not have to provide parents' SSNs | 10,500,000 | 1 | 8.5 | 1,487,500
Adult U.S. Citizens requesting a replacement card with no changes through the iSSNRC modality * | 480,000 | 1 | 5 | 40,000
Respondents whom we ask to provide parents' SSNs (when applying for original SSN cards for children under age 12) | 250,000 | 1 | 9 | 37,500
Applicants age 12 or older who need to answer additional questions so SSA can determine whether we previously assigned an SSN | 1,470,000 | 1 | 9.5 | 232,750
Applicants asking for a replacement SSN card beyond the new allowable limits (i.e., who must provide additional documentation to accompany the application) | 4000 | 1 | 60 | 4000
Authorization to SSA to obtain personal information cover letter | 500 | 1 | 15 | 125
Authorization to SSA to obtain personal information follow-up cover letter | 500 | 1 | 15 | 125
Totals | 12,705,000 |  |  | 1,802,000

4. Statement of Care and Responsibility for Beneficiary—20 CFR 404.2020, 404.2025, 408.620, 408.625, 416.620, & 416.625—0960-0109. SSA uses the information from Form SSA-788 to verify payee applicants' statements of concern, and to identify other potential payees. SSA is concerned with selecting the most qualified representative payee who will use Social Security benefits in the beneficiary's best interest. SSA considers factors such as the payee applicant's capacity to perform payee duties; awareness of the beneficiary's situation and needs; demonstration of past, and current concern for the beneficiary's well-being; etc. in making that determination. If the payee applicant does not have custody of the beneficiary, SSA obtains information from the custodian for evaluation against the information the applicant provides. Respondents are individuals who have custody of the beneficiary in cases where someone else filed to be the beneficiary's representative payee.

Type of Request: Revision of an OMB-approved information collection.

Modality of completion | Number of respondents | Frequency of response | Average burden per response (minutes) | Estimated total annual burden (hours)
SSA-788 | 130,000 | 1 | 10 | 21,667

5. Certificate of Election for Reduced Spouse's Benefits—20 CFR 404.421—0960-0398. SSA cannot pay reduced Social Security benefits to an already entitled spouse unless the spouse elects to receive reduced benefits and is (1) at least age 62, but under full retirement age; and (2) no longer is caring for a child. In this situation, spouses who decide to elect reduced benefits must file Form SSA-25, Certificate of Election for Reduced Spouse's Benefits. SSA uses the information to pay qualified spouses who elect to receive reduced benefits. Respondents are entitled spouses seeking reduced Social Security benefits.

Type of Request: Revision of an OMB approved information collection.

Modality of completion | Number of respondents | Frequency of response | Average burden per response (minutes) | Estimated total annual burden (hours)
SSA-25 | 30,000 | 1 | 2 | 1,000

6. Coverage of Employees of State and Local Governments—20 CFR 404, Subpart M—0960-0425. The Code of Federal Regulations (CFR) at 20 CFR 404, Subpart M, prescribes the rules for States submitting reports of deposits and recordkeeping to SSA. SSA requires States (and interstate instrumentalities) to provide wage and deposit contribution information for pre-1987 periods. Not all states have completely satisfied their pending wage report and contribution liability with SSA for pre-1987 tax years. SSA needs these regulations until all pending items with all states are closed out, and to provide for collection of this information in the future, if necessary. The respondents are State and local governments or interstate instrumentalities.

Type of Request: Extension of an OMB approved information collection.

CFR citation | Number of respondents | Frequency of response | Average burden per response (minutes) | Estimated total annual burden (hours)
404.1204(a) & (b) | 52 | 1 | 30 | 26
404.1215 | 52 | 1 | 60 | 52
404.1216(a) & (b) | 52 | 1 | 60 | 52
Total | 156 |  |  | 130

7. Continuation of Supplemental Security Income Payments for the Temporarily Institutionalized—Certification of Period and Need to Maintain Home—20 CFR 416.212(b)(1)—0960-0516. When SSI recipients (1) enter a public institution, or (2) enter a private medical treatment facility with Medicaid paying more than 50 percent of expenses, SSA reduces recipients' SSI payments to a nominal sum. However, if this institutionalization is temporary (defined as a maximum of three months), SSA may waive the reduction. Before SSA can waive the SSI payment reduction, the agency must receive the following documentation: (1) A physician's certification stating the SSI recipient will only be institutionalized for a maximum of three months, and (2) certification from the recipient, the recipient's family, or friends, confirming the recipient needs SSI payments to maintain the living arrangements to which the individual will return post-institutionalization. To obtain this information, SSA employees contact the recipient (or a knowledgeable source) to collect the required physician's certification and the statement of need. SSA does not require any specific format for these items, so long as we obtain the necessary attestations. The respondents are SSI recipients, their family or friends, as well as physicians or hospital staff members who treat the SSI recipient.

Type of Request: Extension of an OMB-approved information collection.

Modality of completion | Number of respondents | Frequency of response | Average burden per response (minutes) | Estimated total annual burden (hours)
Physician's Certifications and Statements from Other Respondents | 60,000 | 1 | 5 | 5,000

8. Disability Report-Adult—20 CFR 404.1512 and 416.912—0960-0579. State Disability Determination Services (DDS) use the SSA-3368 and its electronic versions to determine if adult disability applicants' impairments are severe and, if so, how the impairments affect the applicants' ability to work. This determination dictates whether the DDSs and SSA will find the applicant to be disabled and entitled to SSI payments. The respondents are applicants for Title II disability benefits or Title XVI SSI payments.

Type of Request: Revision of an OMB-approved information collection.

Modality of completion | Number of respondents | Frequency of response | Average burden per response (minutes) | Estimated total annual burden (hours)
SSA-3368 (Paper form) | 7,571 | 1 | 90 | 11,357
Electronic Disability Collection System (EDCS) | 2,484,231 | 1 | 90 | 3,726,347
i3368 (internet) | 1,060,360 | 1 | 90 | 1,590,540
Totals | 3,552,162 |  |  | 5,328,244

9. Request for Internet Services and 800# Automated Telephone Services Knowledge-Based Authentication (RISA-KBA)—20 CFR 401.45—0960-0596. The Request for Internet Services and 800# Automated Telephone Services (RISA) Knowledge-Based Authentication (KBA) is one of the authentication methods SSA uses to allow individuals access to their personal information through our internet and Automated Telephone Services. SSA asks individuals and third parties who seek personal information from SSA records, or who register to participate in SSA's online business services, to provide certain identifying information. As an extra measure of protection, SSA asks requestors who use the internet and telephone services to provide additional identifying information unique to those individuals so SSA can authenticate their identities before releasing personal information. The respondents are current beneficiaries who are requesting personal information from SSA, and individuals and third parties who are registering for SSA's online business services.

Type of Request: Revision of an OMB-approved information collection.

Modality of completion | Number of respondents | Frequency of response | Average burden per response (minutes) | Estimated total annual burden (hours)
Internet Requestors | 2,903,902 | 1 | 2.5 | 120,996
Telephone Requestors | 9,795,655 | 1 | 4 | 653,044
* Change of Address (on hold) | 1 |  |  | 1
* Screen Splash (on hold) | 1 |  |  | 1
Totals | 12,699,559 |  |  | 774,042
* One-hour placeholder burdens; Screen Splash and Change of Address applications are on hold.

10. Representative Payment Policies Regulation—20 CFR 404.2011, 404.2025, 416.611, and 416.625—0960-0679. Per 20 CFR 404.2011 and 20 CFR 416.611, if SSA determines it may cause substantial harm for Title II or Title XVI recipients to receive their payments directly, recipients may dispute that decision. To do so, recipients provide SSA with information the agency uses to reevaluate its determination. In addition, our regulations state that after SSA selects a representative payee to receive benefits on a recipient's behalf, the payees provide SSA with information on their continuing relationship and responsibility for the recipients, and explain how they use the recipients' payments. Sections 20 CFR 404.2025 and 20 CFR 416.625 provide a process to follow up with the representative payee to verify payee performance. The respondents are Title II and Title XVI recipients, and their representative payees.

Type of Request: Extension of an OMB-approved information collection.

CFR citation | Number of respondents | Frequency of response | Average burden per response (minutes) | Estimated total annual burden (hours)
404.2011(a)(1); 416.611(a)(1) | 250 | 1 | 15 | 63
404.2025; 416.625 | 3,000 | 1 | 6 | 300
Totals | 3,250 |  |  | 363

11. Function Report Adult—20 CFR 404.1512 & 416.912—0960-0681. Individuals receiving or applying for Social Security disability insurance (SSDI) or SSI must provide medical evidence and other proof SSA requires to prove their disability. SSA staff, and, on our behalf, DDS employees, collect the information via paper Form SSA-3373-BK, or through an in-person or telephone interview for cases where we need information about a claimant's activities and abilities to evaluate the claimant's disability. We use the information to document how claimants' disabilities affect their ability to function, and to determine eligibility, or continued eligibility, for SSI and SSDI claims. The respondents are Title II and Title XVI applicants (or current recipients undergoing redeterminations) for disability payments.

Type of Request: Revision of an OMB-approved information collection.

Modality of completion | Number of respondents | Frequency of response | Average burden per response (minutes) | Estimated total annual burden (hours)
SSA-3373-BK | 1,734,635 | 1 | 61 | 1,763,546

12. Request for Business Entity Taxpayer Information—0960-0731. SSA requires Law firms or other business entities to complete Form SSA-1694, Request for Business Entity Taxpayer Information, if they wish to serve as appointed representatives and receive direct payment of fees from SSA. SSA uses the information to issue a Form 1099-MISC. SSA also uses the information to allow business entities to designate individuals to serve as entity administrators authorized to perform certain administrative duties on their behalf, such as providing bank account information, maintaining entity information, and updating individual affiliations. Respondents are law firms or other business entities with attorneys or other qualified individuals as partners or employees who represent claimants before SSA.

Type of Request: Revision of an OMB-approved information collection.

Modality of completion | Number of respondents | Frequency of response | Average burden per response (minutes) | Estimated total annual burden (hours)
SSA-1694—Paper Version | 750 | 1 | 10 | 125
SSA-1694—Business Services Online Submission | 150 | 1 | 10 | 25
Totals | 900 |  |  | 150

13. Authorization for the Social Security Administration to Obtain Personal Information—20 CFR 404.704; 404.820-404.823; 404.1926; 416.203; and 418.3001—0960-0801. SSA uses Form SSA-8510 to contact a public or private custodian of records on behalf of an applicant or recipient of an SSA program to request evidence information, which may support a benefit application or payment continuation. We ask for evidence information such as the following:

• Age requirements (e.g., birth certificate, court documents)

• Insured status (e.g., earnings, employer verification)

• Marriage or divorce information

• Pension offsets

• Wages verification

• Annuities

• Property information

• Benefit verification from a State agency or third party

• Immigration status (rare instances)

• Income verification from public agencies or private individuals

• Unemployment benefits

• Insurance policies

If the custodian requires a signed authorization from the individual(s) whose information SSA requests, SSA may provide the custodian with a copy of the SSA-8510. Once the respondent completes the SSA-8510, either using the paper form, or using the Personal Information Authorization web page version, SSA uses the form as the authorization to obtain personal information regarding the respondent from third parties until the authorizing person (respondent) revokes the permission of its usage. The collection is voluntary; however, failure to verify the individuals' eligibility can prevent SSA from making an accurate and timely decision for their benefits. The respondents are individuals who may file for, or currently receive, Social Security benefits, SSI payments, or Medicare Part D subsidies.

Type of Request: Revision of an OMB-approved information collection.

Modality of completion | Number of Respondents | Frequency of response | Average burden per response (minutes) | Estimated annual burden (hours)
Paper SSA-8510 for Medicare Subsidy Quality Review | 3,500 | 1 | 5 | 292
Paper SSA-8510 for general evidence purposes | 19,800 | 1 | 5 | 1,650
Personal Information Authorization web page | 140,145 | 1 | 5 | 11, 679
Totals | 163,445 |  |  | 13,621

Dated: July 20, 2018.
Naomi Sipple,
Reports Clearance Officer, Social Security Administration.

[FR Doc. 2018-15939 Filed 7-25-18; 8:45 am]

BILLING CODE 4191-02-P